DEPARTMENT OF EDUCATION

[CFDA No.: 84.235M]

Special Demonstration Programs—Model Demonstration Projects Notice Inviting Applications for New Awards for Fiscal Year (FY) 2001

Purpose of Program: To provide funding for model demonstration projects with innovative methods of promoting achievement of high-quality employment outcomes for individuals with disabilities. These projects will expand and improve the provision of rehabilitation services, as defined in 34 CFR part 373, for individuals with disabilities.

Eligible Applicants: State vocational rehabilitation agencies; community rehabilitation programs; Indian tribes or tribal organizations; and public or nonprofit agencies or organizations, including institutions of higher education.

Supplementary Information: Funds under this competition will be used to support projects in FY 2001. In FY 2002, the Assistant Secretary may consider funding high-quality applications submitted in FY 2001.

Applications Available: May 18, 2001.

Deadline for Transmittal of Applications: July 18, 2001.

Deadline for Intergovernmental Review: September 17, 2001.

Available Funds: $1,600,000.

Estimated Range of Awards: $225,000 to $300,000.

Estimated Number of Awards: 6.

Note: The Department is not bound by any estimates in this notice.

Project Period: Up to 60 months.

Page Limit: The application narrative (Part III of the application) is where you, the applicant, address the selection criteria that reviewers use to evaluate your application. It is suggested that you limit Part III to 35 pages.

Applicable Regulations: (a) The Education Department General Administrative Regulations (EDGAR) in 34 CFR parts 74, 75, 77, 79, 80, 81, 82, 85, 86, 97, and 99; and (b) The regulations for this program in 34 CFR part 373.

Note: The regulations in 34 CFR part 79 apply to all applicants except federally recognized Indian tribes.

Note: The regulations in 34 CFR part 86 apply to institutions of higher education only.

Priorities

Background

The unemployment rate for working-age adults with disabilities has hovered at 70 percent for over a decade. Model demonstration projects that promote high-quality employment outcomes will provide opportunities for individuals with disabilities to be placed in jobs at which they will—(1) receive the minimum wage or higher, with benefits; (2) have opportunities for advancement; (3) work on a full-time basis, or as close to full-time as appropriate; (4) work in an integrated setting, if appropriate; and (5) obtain employment that is consistent with the strengths, resources, priorities, concerns, abilities, capabilities, interests, and informed choice of the individual with disabilities.

Absolute Priority

This competition focuses on projects designed to meet a priority that we have chosen from allowable activities specified in the program statute (see 34 CFR 75.105(b)(2)(v) and section 303(b)(4)(B) and (5)(B)(ix) of the Rehabilitation Act of 1973, as amended, (29 U.S.C. 773(b)). For FY 2001 this priority is an absolute priority. Under 34 CFR 75.105(c)(3) we consider only applications that meet the priority.

The projects must be model demonstrations with innovative service methods for promoting achievement of high-quality employment outcomes for individuals with disabilities. To meet the absolute priority requirements for model demonstration projects of rehabilitation service delivery, the application must—

(1) Demonstrate a model of rehabilitation service delivery that is innovative for the applicant and in the local service area and is expected to lead to high-quality employment outcomes for individuals with disabilities;

(2) Certify that the project includes activities that have not been funded previously, for that applicant or in that service area, under an award from the Special Demonstration Programs; and

(3) Include a plan to widely disseminate the results of the project, including any rehabilitation service delivery model proven to be effective, so the model may be adapted, replicated, or integrated into fee-for-service arrangements by State vocational rehabilitation agencies and other disability organizations.

Competitive Preference Priority

Within the absolute priority for this competition for FY 2001, this competition focuses on projects designed to meet the competitive preference priority in the notice of final competitive preference for this program, published in the Federal Register on November 22, 2000 (65 FR 70408). Under 34 CFR 75.105(c)(2)(i) we award up to an additional 10 points to an application that is otherwise eligible for funding under this program, depending on the extent to which the application meets the competitive preference priority.

Invitational Priorities

Within the absolute priority for this competition for FY 2001, we are particularly interested in applications that meet one or more of the following invitational priorities. However, under 34 CFR 75.105(c)(1), we do not give an application that meets one or more of these invitational priorities a competitive or absolute preference over other applications.

Invitational Priority 1—Model Demonstrations To Increase Employment Outcomes, Especially Self-employment, Telecommuting, or Business Ownership, for American Indians With Disabilities Who Reside on or Near Reservations or in Urban Settings

We are interested in projects that would increase employment opportunities by providing vocational rehabilitation services to American Indians with disabilities. These projects, which would provide services to American Indians and may provide training and instruction to other nonprofit agencies to provide these services, would lead to vocational outcomes related to self-employment, telecommuting, or business ownership. Services may include, but are not limited to, technical assistance and other consultation services to conduct market analyses, develop business plans, and obtain loans, occupational licenses, tools, equipment, initial stocks, and supplies for eligible individuals. These projects would work closely with the National Technical Assistance Center to increase employment opportunities and vocational outcomes for Native Americans with disabilities.

Invitational Priority 2—Programs That Demonstrate Methods That Lead to Employment Opportunities With Career Advancement for Individuals With Disabilities Who Are Homeless or Reside in Supportive or Subsidized Housing

We are interested in projects that would demonstrate service delivery models that would further high-quality employment outcomes for individuals with disabilites who are homeless or reside in supportive or subsidized housing. Projects would focus on developing systems to link the supportive or the subsidized housing industry with the public vocational rehabilitation system. Projects supported under this invitational priority may include, but are not limited to, maintaining and replicating successful approaches to link the supportive or the subsidized housing industry with the vocational rehabilitation (VR) system; developing methodologies to expedite entry into the VR system for those individuals with disabilities who are homeless or residing in supportive or subsidized housing who need and may benefit from VR services; developing appropriate mechanisms to build on existing supportive or subsidized housing systems to provide VR services to increase employment outcomes including long-term job placements in competitive work, in a cost effective and efficient manner; and developing linkages with the Department of Labor's One-Stop service delivery system and focusing on individuals with disabilities in the Department of Housing and Urban Development's housing programs, including the Shelter Care Plus and the Section 8 programs. The goal would be to not only increase employment rates but to encourage new local collaboration between employment and housing providers. Projects would provide services that may include, but are not limited to, training, education, counseling, placement, and follow-up activities that would allow the individuals with disabilites to possess the knowledge and skills necessary to compete for jobs with the potential for career advancement and higher wages and benefits. Projects may also provide services to improve career advancement opportunities for individuals with disabilities who are employed.

Invitational Priority 3—Programs That Demonstrate Methods of Providing Affordable Transportation Services to Individuals With Disabilities

We are interested in projects that would demonstrate methods of providing affordable transportation services to individuals who are employed, seeking employment, or receiving vocational rehabilitation services from public or private organizations and who reside in geographic areas in which public transportation or paratransit service is not available or, if available, does not adequately meet the needs of the consumers (e.g., need for 24-hour service).

Selection Criteria: In evaluating an application for a new grant under this competition, we use selection criteria chosen from the general selection criteria in 34 CFR 75.210 of EDGAR. The selection criteria to be used for this competition will be provided in the application package for this competition.

For Applications Contact: Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs via its Web site: http://www.ed.gov/pubs/edpubs.html or you may contact ED Pubs at its e-mail address: ed pubs@inet.ed.gov

If you request an application from ED Pubs, be sure to identify this competition as follows: CFDA number 84.235M.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Service (FIRS) at 1-800-877-8339. However, the Department is not able to reproduce in an alternative format the standard forms included in the application package.

For Further Information Contact: Alfreda Reeves, U.S. Department of Education, 400 Maryland Avenue, SW., room 3314, Switzer Building, Washington, DC. 20202-2650. Telephone: (202) 205-9361. If you use a telecommunications device for the deaf (TDD), you may call the Federal Information Relay Service (FIRS) at 1-800-877-8339.

Individuals with disabilities may obtain this notice in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 29 U.S.C. 773(b).

Dated: May 8, 2001.
Francis V. Corrigan,
Deputy Director, National Institute on Disability and Rehabilitation Research.

[FR Doc. 01-11996 Filed 5-11-01; 8:45 am]

BILLING CODE 4000-01-U